DEPARTMENT OF LABOR

Employment and Training Administration

[TA-W-81,250]

Schneider Electric, U.S.A., Subsidiary of Schneider Electric, Power Business Unit, Power Solutions Division, Including On-Site Leased Workers From Volt Workforces Solutions and Resource Tek, Lavergne, TN; Amended Certification Regarding Eligibility To Apply for Worker Adjustment Assistance

In accordance with Section 223 of the Trade Act of 1974, as amended (“Act”), 19 U.S.C. 2273, the Department of Labor issued a Certification of Eligibility to Apply for Worker Adjustment Assistance on February 7, 2012, applicable to workers of Schneider Electric, U.S.A., subsidiary of Schneider Electric, Power Business Unit, Power Solutions Division, including on-site leased workers from Volt Workforces Solutions, LaVergne, Tennessee. The workers are engaged in activities related to the production of electric monitoring devices used for measuring and monitoring electric consumption. The notice was published in the Federal Register on February 28, 2012 (77 FR 12083).

At the request of a company official, the Department reviewed the certification for workers of the subject firm. New information from the company shows that workers leased from Resource Tek were employed on-site at the LaVergne, Tennessee location of Schneider Electric, U.S.A., Power Business Unit, Power Solutions Division. The Department has determined that these workers were sufficiently under the control of Schneider Electric, U.S.A., Power Business Unit, Power Solutions Division to be considered leased workers.

The intent of the Department's certification is to include all workers of the subject firm who were adversely affected by a shift in production to India. Based on these findings, the Department is amending this certification to include workers leased from Resource Tek working on-site at the LaVergne, Tennessee location of the subject firm. The amended notice applicable to TA-W-81,250 is hereby issued as follows:

“All workers from Schneider Electric, U.S.A., Subsidiary of Schneider Electric, Power Business Unit, Power Solutions Division, including on-site leased workers from Volt Workforces Solutions and Resource Tek, LaVergne, Tennessee, who became totally or partially separated from employment on or after February 13, 2010, through February 7, 2014, and all workers in the group threatened with total or partial separation from employment on date of certification through two years from the date of certification, are eligible to apply for adjustment assistance under Chapter 2 of Title II of the Trade Act of 1974, as amended.”

Signed at Washington, DC, this 16th day of November, 2012.
Elliott S. Kushner,
Certifying Officer, Office of Trade Adjustment Assistance.

[FR Doc. 2013-00104 Filed 1-7-13; 8:45 am]

BILLING CODE 4510-FN-P